DEPARTMENT OF TRANSPORTATION

Federal Highway Administration

23 CFR Part 625

[Docket No. FHWA-2015-0003]

[RIN 2125-AF67]

Design Standards for Highways

AGENCY: Federal Highway Administration (FHWA), Department of Transportation (DOT).

ACTION: Notice of proposed rulemaking (NRPM); request for comments.

SUMMARY: The FHWA requests comments on a proposed revision to design standards and standard specifications that applies to new construction, reconstruction, resurfacing (except for maintenance resurfacing), restoration, and rehabilitation projects on the National Highway System (NHS). The proposed rule would incorporate by reference the latest versions of design standards and standard specifications previously adopted and incorporated by reference under 23 CFR part 625, and would remove the corresponding outdated or superseded versions of these standards and specifications. The proposed rule also would make technical changes to the regulatory text consistent with updated Federal Register procedures.

DATES: Comments must be received on or before July 2, 2015. Late comments will be considered to the extent practicable.

ADDRESSES: You may submit comments identified by the docket number FHWA-2015-0003 by any one of the following methods:

Fax: 1-202-493-2251;

Mail: U.S. Department of Transportation, Docket Operations, M-30, West Building Ground Floor, Room W12-140, 1200 New Jersey Avenue SE., Washington, DC 20590;

Hand Delivery: U.S. Department of Transportation, Docket Operations, West Building Ground Floor, Room W12-140, 1200 New Jersey Avenue SE., Washington, DC 20590, between 9 a.m. and 5 p.m., Monday through Friday, except Federal holidays; or Electronically through the Federal eRulemaking Portal: http://www.regulations.gov. Follow the online instructions for submitting comments.

Instructions: All submissions must include the agency name, docket name and docket number or Regulatory Identification Number (RIN) for this rulemaking (2125-AF67). Note that all comments received will be posted without change to: http://www.regulations.gov, including any personal information provided.

Docket: For access to the docket to read background documents or comments received, go to http://www.regulations.gov at any time or to U.S. Department of Transportation, Docket Operations, M-30, West Building Ground Floor, Room W12-140, 1200 New Jersey Avenue SE., Washington, DC 20950, between 9 a.m. and 5 p.m., Monday through Friday, except Federal holidays.

FOR FURTHER INFORMATION CONTACT: Mr. Michael Matzke, Office of Program Administration (HIPA-20), (202) 366-4658, or via email at michael.matzke@dot.gov, or Mr. Robert Black, Office of the Chief Counsel (HCC-30), (202) 366-1373, or via email at robert.black@dot.gov. Office hours are from 8:00 a.m. to 4:30 p.m., e.t., Monday through Friday, except Federal holidays.

SUPPLEMENTARY INFORMATION:

Electronic Access and Filing

This document may be viewed online through the Federal eRulemaking portal at: http://www.regulations.gov. Electronic submission and retrieval help and guidelines are available on the Web site. It is available 24 hours each day, 365 days this year. Please follow the instructions. An electronic copy of this document may also be downloaded from the Office of the Federal Register's Web site at: http://www.archives.gov/federal-register and the Government Publishing Office's Web site at: http://www.gpo.gov/fdsys. In accordance with 5 U.S.C. 553(c), DOT solicits comments from the public to better inform its rulemaking process. The DOT posts these comments, without edit, including any personal information the commenter provides, to www.regulations.gov, as described in the system of records notice (DOT/ALL-14 FDMS), which can be viewed at www.dot.gov/privacy.

Background

The FHWA proposes to modify its regulations governing new construction, reconstruction, resurfacing (except for maintenance resurfacing), restoration, and rehabilitation projects on the NHS (including the Interstate system), by incorporating by reference the current versions of design standards and standard specifications previously adopted and incorporated by reference under 23 CFR 625.4, and removing the outdated or superseded versions of these standards and specifications. Several of these design standards and standard specifications were established by the American Association of State Highway and Transportation Officials (AASHTO) and the American Welding Society (AWS) and were previously adopted by FHWA through rulemaking. The new standards or specifications replace previous versions of these documents and represent the most recent refinements that professional organizations have formally accepted. After review of the various standards and specifications, FHWA proposes to adopt them for NHS projects.

The proposed revisions include referencing the 2011 edition of the AASHTO A Policy on Geometric Design of Highways and Streets, commonly referred to as the Green Book. The proposed revisions also include referencing the current version of AASHTO's Load and Resistance Factor Design (LRFD) Bridge Design Specifications; LRFD Movable Highway Bridge Design Specifications; and Standard Specifications for Structural Supports of Highway Signs, Luminaires and Traffic Signals. In addition, the proposed revisions would reference the current version of the AWS Bridge Welding Code and the Structural Welding Code—Reinforcing Steel.

The AASHTO is an organization that represents 52 State highway and transportation agencies (including the District of Columbia and Puerto Rico). Its members consist of the duly constituted heads and other chief officials of those agencies. The Secretary of Transportation is an ex-officio member, and DOT staff participates in various AASHTO activities as nonvoting representatives. Among other functions, AASHTO develops and issues standards, specifications, policies, guides and related materials for use by the States for highway projects. Many of the standards, policies, and standard specifications that were approved by FHWA and incorporated into 23 CFR part 625 were developed and issued by AASHTO.

The proposed revisions also include updated versions of welding codes published by AWS. The AWS is a nonprofit organization known for its code and certification procedures, providing industry standards for welding, including in the transportation field. The AWS reports about 66,000 members worldwide and develops updated materials for welding professionals and other interested parties, including those related to bridge welding and structural welding. While these adopted standards and specifications apply to all projects on the NHS (including the Interstate system), FHWA encourages the use of flexibility and a context-sensitive approach to consider a full range of project and user needs and the impacts to the community and natural and human environment. The FHWA encourages State Departments of Transportation (State DOTs) and local agencies to consider using design exceptions to achieve a design that balances project and user needs, performance, cost, environmental implications, and community values. These adopted design standards provide a range of acceptable values for highway features, and FHWA encourages the use of this flexibility to achieve a design that best suits the desires of the community while satisfying the purpose for the project and needs of its users.

At a minimum, State DOTs and local agencies should select design values based on an evaluation of the context of the facility, needs of all the various project users, safety, mobility (i.e., traffic performance), human and natural environmental impacts, and project costs. For most situations, there is sufficient flexibility within the range of acceptable values to achieve a balanced design. However, when this is not possible, a design exception may be appropriate. State and local agencies may consider designs that deviate from the design standards when warranted based on the conditions, context, and consequences of the proposed projects. Additional information on FHWA's adopted design standards and design exceptions is available electronically at http://www.fhwa.dot.gov/design/standards and in FHWA's publication titled Mitigation Strategies for Design Exceptions available at http://safety.fhwa.dot.gov/geometric/pubs/mitigationstrategies/fhwa_sa_07011.pdf.

The proposed rule also would make technical changes to the regulatory text consistent with updated Federal Register procedures, including updating mailing addresses and including telephone and Web site addresses in 23 CFR 625.4(d) pertaining to the availability of documents incorporated by reference.

Discussion Under 1 CFR Part 51

The documents FHWA proposes to incorporate by reference are reasonably available to interested parties, primarily State DOTs and local agencies carrying out Federal-aid highway projects. These documents represent the most recent refinements that professional organizations have formally accepted and are currently in use by the transportation industry. The documents are also available for review at the U.S. Department of Transportation's National Transportation Library, the National Archives and Records Administration (NARA), or may be obtained from AASHTO or AWS. The specific standards are discussed in greater detail elsewhere in this preamble.

Section by Section Discussion of the Proposed Changes to 23 CFR Part 625

The FHWA proposes to revise § 625.4(a)(1) to replace the reference to the 2001 edition of A Policy on Geometric Design of Highways and Streets (Policy) with the 2011 edition. The AASHTO 2011 edition incorporates the latest research and current industry practices, with the basic criteria identified for geometric design standards remaining essentially the same. This Policy is a comprehensive manual to assist State DOTs and local agencies in administrative, planning, and educational efforts pertaining to design formulation. The Policy includes design guidelines for freeways, arterials, collectors, and local roads in both urban and rural locations. The Agency considers the changes made in the 2011 version minor in nature. Most notably, the changes include improved methods for determining stopping and passing site distance and clarifications of inconsistencies between the Policy and AASHTO's Roadside Design Guide.

The FHWA proposes to strike § 625.4(a)(4) because the referenced document, Erosion and Sediment Control on Highway Construction Projects, is guidance only. Accordingly, the document does not carry the force and effect of law, and incorporation by reference in the Agency's regulations is unnecessary. The proposed rule would redesignate existing §§ 625.4(a)(5)-(8) as §§ 625.4(a)(4)-(7), respectively.

With respect to the design standards and standards specifications for bridges and structures under § 625.4(b), FHWA generally proposes to adopt the current versions of the standards and specifications it has previously adopted from AASHTO and AWS. The updated documents contain changes that represent discoveries or improvements in the state-of-the-knowledge and practices of State DOTs and local agencies that have occurred since the previous standards and specifications were incorporated by reference into 23 CFR part 625.

The NPRM would revise § 625.4(b)(1) to reference the Standard Specifications for Highway Bridges, 17th Edition, AASHTO adopted in 2002 instead of the 15th edition adopted in 1992. The updates incorporated into the 17th Edition are minor in nature. They include the incorporation of the interim specifications of 1997, 1998, 1999, 2000, 2001, 2002, and 2003 and other minor updates. However, FHWA proposes that with respect to proposed modifications to existing bridges, the standard specifications for design may be those that were used for the original design of the bridge.

The FHWA proposes to strike paragraphs (2) through (4) of § 625.4(b) pertaining to interim specifications for bridges and LRFD bridge design specifications. In their place, the NPRM would insert new paragraph (2). Proposed paragraph (2) would incorporate by reference the current version of the revised AASHTO specifications entitled “LRFD Bridge Construction Specifications, 3rd Edition, with the 2010, 2011, 2012 and 2014 Interim Revisions.” The AASHTO previously included these specifications in its Standard Specifications for Highway Bridges, but these specifications are now in a stand-alone document. The LRFD Bridge Construction Specifications are intended to complement the LRFD Bridge Design Specifications, which the FHWA proposes to include under a new paragraph (3).

The FHWA proposes to strike paragraphs (5) and (6) of § 625.4(b) and insert a new paragraph (3). Proposed paragraph (3) would incorporate by reference AASHTO LRFD Bridge Design Specifications, 7th Edition, AASHTO 2014. This change would replace the bridge design specifications AASHTO adopted in 1994 that are currently incorporated by reference under paragraphs (5) and (6). The 7th Edition updates are minor in nature and include clearer direction on seismic isolation design. The FHWA required the use of the LRFD Bridge Design Specifications on all new and total replacement bridge designs after 2007.¹ As such, the LRFD Bridge Construction Specifications rely on extensive use of the same statistical modeling methods as the LRFD Bridge Design Specifications, but set forth the results in a manner readily usable by bridge designers and analysts.

¹ FHWA Policy Memorandum, “Clarification of LRFD Policy Memorandum,” January 22, 2007, http://www.fhwa.dot.gov/bridge/012207.cfm.

The FHWA proposes to strike § 625.4(b)(7) and add a new paragraph (4) to incorporate by reference the current version of the LRFD Movable Highway Bridge Design Specifications, 2nd Edition, 2007, and the Interim Revisions that AASHTO adopted in 2008, 2010, 2011, 2012, 2014, and 2015. This change would replace bridge design specifications adopted by AASHTO in 1994. Changes in the 2nd Edition are minor and include the treatment of precast concrete component and clarification on prequalified details and essential variables for fillet welds.

The FHWA proposes to strike § 625.4(b)(8) and add a new paragraph (5) to incorporate by reference the current version of the AASHTO/AWS D1.5M/D1.5: 2010 Bridge Welding Code, 6th Edition; AASHTO, 2010 and the Interim Revisions that AASHTO adopted in 2011 and 2012. This code and interim revisions replace those previously adopted by AASHTO. Changes in the 6th Edition are minor in nature and include consolidation of tables, clarifications for several types of welding, and addition of new steel grades to the code.

The FHWA proposes to strike § 625.4(b)(9) and add a new paragraph (6) to incorporate by reference the current version of the D1.4/D1.4M: 2011 Structural Welding Code—Reinforcing Steel that the American Welding Society adopted in 2011. This code will replace the code AASHTO previously adopted in 1992. The changes consist primarily of conversion from International System of Units (known as SI) to United States customary units.

The FHWA proposes to strike § 625.4(b)(10) and add a new paragraph (7) to incorporate by reference the current version of the Standard Specifications for Structural Supports for Highway Sign, Luminaires and Traffic Signals, 6th Edition, AASHTO, 2013. This edition of the standard specifications will replace those that were previously adopted by AASHTO in 1994. Changes in the 6th Edition are minor in nature and include new figures for welding of connections, updates to hand-hole welds, and updated design methods for support structures.

Finally, FHWA proposes to redesignate section 625.5(b)(11) as paragraph (8), continuing to incorporate by reference navigational clearances for bridges under 23 CFR part 650, subpart H.

Rulemaking Analyses and Notices

All comments received before the close of business on the comment closing date indicated above will be considered and will be available for examination in the docket at the above address. Comments received after the comment closing date will be filed in the docket and will be considered to the extent practicable. In addition to late comments, FHWA will also continue to file relevant information in the docket as it becomes available after the comment period closing date, and interested persons should continue to examine the docket for new material. A final rule may be published at any time after close of the comment period and after DOT has had the opportunity to review the comments submitted.

Executive Order 12866 (Regulatory Planning and Review), Executive Order 13563 (Improving Regulation and Regulatory Review), and DOT Regulatory Policies and Procedures

The FHWA has determined that this action does not constitute a significant regulatory action within the meaning of Executive Order 12866 or within the meaning of DOT regulatory policies and procedures. The proposed amendments would update several industry design standards and standard specifications adopted and incorporated by reference under 23 CFR part 625 and would remove the corresponding outdated or superseded versions of these standards and specifications. The proposed rule also would make technical changes to the regulatory text consistent with updated Federal Register procedures.

In addition, this action complies with the principles of Executive Order 13563. After evaluating the costs and benefits of these proposed amendments, FHWA anticipates that the economic impact of this rulemaking would be minimal. These changes are not anticipated to adversely affect, in any material way, any sector of the economy. In addition, these changes will not create a serious inconsistency with any other agency's action or materially alter the budgetary impact of any entitlements, grants, user fees, or loan programs. These updated standards and specifications represent the most recent refinements that professional organizations have formally accepted, and are currently in use by the transportation industry. The FHWA anticipates that the economic impact of this rulemaking will be minimal; therefore, a full regulatory evaluation is not necessary.

Regulatory Flexibility Act

In compliance with the Regulatory Flexibility Act (Pub. L. 96-354, 5 U.S.C. 601-612), FHWA has evaluated the effects of this proposed rule on small entities, such as local governments and businesses. Based on the evaluation, FHWA anticipates that this action would not have a significant economic impact on a substantial number of small entities. The proposed amendments would update several industry design standards and standard specifications adopted and incorporated by reference under 23 CFR part 625. The FHWA believes the projected impact upon small entities that utilize Federal-aid highway program funding for the development of highway improvement projects on the NHS would be negligible. Therefore, I certify that the proposed action would not have a significant economic impact on a substantial number of small entities.

Unfunded Mandates Reform Act of 1995

The FHWA has determined that this NPRM would not impose unfunded mandates as defined by the Unfunded Mandates Reform Act of 1995 (Pub. L. 104-4, March 22, 1995, 109 Stat. 48). The actions proposed in this NPRM would not result in the expenditure by State, local, and tribal governments, in the aggregate, or by the private sector, of $143.1 million or more in any one year (when adjusted for inflation) in 2012 dollars for either State, local, and tribal governments in the aggregate, or by the private sector. The FHWA will publish a final analysis, including its response to public comments, when it publishes a final rule. In addition, the definition of “Federal Mandate” in the Unfunded Mandates Reform Act excludes financial assistance of the type in which State, local, or tribal governments have authority to adjust their participation in the program in accordance with changes made in the program by the Federal Government. The Federal-aid highway program permits this type of flexibility.

Executive Order 13132 (Federalism Assessment)

The FHWA has analyzed this NPRM in accordance with the principles and criteria contained in Executive Order 13132. The FHWA has determined that this action would not have sufficient federalism implications to warrant the preparation of a federalism assessment. The FHWA has also determined that this action would not preempt any State law or State regulation or affect the States' ability to discharge traditional State governmental functions.

Executive Order 12372 (Intergovernmental Review)

The regulations implementing Executive Order 12372 regarding intergovernmental consultation on Federal programs and activities apply to this program. This Executive Order applies because State and local governments would be directly affected by the proposed regulation, which is a condition on Federal highway funding. Local entities should refer to the Catalog of Federal Domestic Assistance Program Number 20.205, Highway Planning and Construction, for further information.

Paperwork Reduction Act

Under the Paperwork Reduction Act of 1995 (PRA) (44 U.S.C. 3501, et seq.), Federal agencies must obtain approval from the Office of Management and Budget for each collection of information they conduct, sponsor, or require through regulations. The FHWA has determined that the proposed rule does not contain collection of information requirements for the purposes of the PRA.

National Environmental Policy Act

The FHWA has analyzed this proposed rule for the purposes of the National Environmental Policy Act (NEPA) (42 U.S.C. 4321 et seq.) and has determined that this action would not have any effect on the quality of the human and natural environment because it only would make technical changes and incorporate by reference the latest versions of design standards and standard specifications previously adopted and incorporated by reference under 23 CFR part 625 and would remove the corresponding outdated or superseded versions of these standards and specifications. The proposed rule qualifies as a categorical exclusion to NEPA under 23 CFR 771.117(c)(20).

Executive Order 13175 (Tribal Consultation)

The FHWA has analyzed this proposed rule under Executive Order 13175, dated November 6, 2000, and believes that it would not have substantial direct effects on one or more Indian Tribes, would not impose substantial direct compliance costs on Indian Tribal governments, and would not preempt Tribal law. This proposed rule would not impose any direct compliance requirements on Indian Tribal governments nor would it have any economic or other impacts on the viability of Indian Tribes. Therefore, a Tribal summary impact statement is not required.

Executive Order 13211 (Energy Effects)

The FHWA has analyzed this proposed rule under Executive Order 13211, Actions Concerning Regulations that Significantly Affect Energy Supply, Distribution or Use. The FHWA has determined that this proposed action is not a significant energy action under the Executive Order and is not likely to have a significant adverse effect on the supply, distribution, or use of energy. Therefore, a Statement of Energy Effects is not required.

Executive Order 12630 (Taking of Private Property)

The FHWA has analyzed this proposed rule under Executive Order 12630, Governmental Actions and Interference with Constitutionally Protected Property Rights. The FHWA does not anticipate that this proposed action would effect a taking of private property or otherwise have taking implications under Executive Order 12630.

Executive Order 12988 (Civil Justice Reform)

This action meets applicable standards in sections 3(a) and 3(b)(2) of Executive Order 12988, Civil Justice Reform, to minimize litigation, eliminate ambiguity, and reduce burden.

Executive Order 13045 (Protection of Children)

The FHWA has analyzed this proposed action under Executive Order 13045, Protection of Children from Environmental Health Risks and Safety Risks. The FHWA certifies that this proposed action would not cause an environmental risk to health or safety that may disproportionately affect children.

Executive Order 12898 (Environmental Justice)

The Executive Order 12898 requires that each Federal agency make achieving environmental justice part of its mission by identifying and addressing, as appropriate, disproportionately high and adverse human health or environmental effects of its programs, policies, and activities on minorities and low-income populations. The FHWA has determined that this rule does not raise any environmental justice issues.

Regulation Identifier Number

A RIN is assigned to each regulatory action listed in the Unified Agenda of Federal Regulations. The Regulatory Information Service Center publishes the Unified Agenda in April and October of each year. The RIN number contained in the heading of this document can be used to cross-reference this action with the Unified Agenda.

List of Subjects in 23 CFR Part 625

Design standards, Grant programs—transportation, Highways and roads, Incorporation by reference.

Issued on: May 21, 2015.
Gregory G. Nadeau,
Acting Administrator, Federal Highway Administration.

In consideration of the foregoing, the FHWA proposes to revise 23 CFR part 625 as follows:

PART 625—DESIGN STANDARDS FOR HIGHWAYS

1. The authority citation for part 625 continues to read as follows:

Authority: 23 U.S.C. 109, 215, and 402; Sec. 1073 of Pub. L. 102-240, 105 Stat. 1914, 2012; 49 CFR 1.48(b) and (n).

2. In § 625.4, revise paragraphs (a), (b) and (d) to read as follows:

§ 625.4 Standards, policies, and standard specifications.

(a) Roadway and appurtenances. (1) A Policy on Geometric Design of Highways and Streets, AASHTO 2011.

(2) A Policy on Design Standards Interstate System, AASHTO, January 2005.

(3) The geometric design standards for resurfacing, restoration, and rehabilitation (RRR) projects on NHS highways other than freeways shall be the procedures and the design or design criteria established for individual projects, groups of projects, or all non-freeway RRR projects in a State, and as approved by the FHWA. The other geometric design standards in this section do not apply to RRR projects on NHS highways other than freeways, except as adopted on an individual State basis. The RRR design standards shall reflect the consideration of the traffic, safety, economic, physical, community, and environmental needs of the projects.

(4) Location and Hydraulic Design of Encroachments on Flood Plains, refer to 23 CFR part 650, subpart A.

(5) Procedures for Abatement of Highway Traffic Noise and Construction Noise, refer to 23 CFR part 772.

(6) Accommodation of Utilities, refer to 23 CFR part 645, subpart B.

(7) Pavement Design, refer to 23 CFR part 626.

(b) Bridges and structures. (1) For existing bridges originally designed to any edition of the AASHTO Standard Specifications for Highway Bridges, modifications may be designed to the Standard Specifications for Highway Bridges, 17th Edition, AASHTO 2002, or to the standards and specifications that are listed in § 625.4(b). [See § 625.4(d)(1)]

(2) AASHTO LRFD Bridge Construction Specifications, 3rd Edition, with 2010, 2011, 2012, and 2014 Interim Revisions, AASHTO. [See § 625.4(d)(1)]

(3) AASHTO LRFD Bridge Design Specifications, 7th Edition, AASHTO 2014. [See § 625.4(d)(1)]

(4) AASHTO LRFD Movable Highway Bridge Design Specifications, 2nd Edition, including 2008, 2010, 2011, 2012, 2014, and 2015 Interim Revisions, AASHTO 2007. [See § 625.4(d)(1)]

(5) AASHTO/AWS D1.5M/D1.5: 2010 Bridge Welding Code, 6th Edition, with 2011 and 2012 Interim Revisions, AASHTO 2011. [See § 625.4(d)(1)]

(6) D1.4/D1.4M: 2011Structural Welding Code-Reinforcing Steel, American Welding Society, 2011. [See § 625.4(d)(2)]

(7) Standard Specifications for Structural Supports for Highway Signs, Luminaires and Traffic Signals, 6th Edition, AASHTO 2013. [See § 625.4(d)(1)]

(8) Navigational Clearances for Bridges, refer to 23 CFR part 650, subpart H.

* * * * *

(d) Documents incorporated by reference. The Director of the Federal Register approves the incorporation by reference of the documents listed in this section in accordance with 5 U.S.C. 552(a) and 1 CFR part 51. The documents listed in § 625.4 are incorporated by reference and available for inspection at the U.S. Department of Transportation's National Transportation Library at 1200 New Jersey Avenue SE., Washington, DC 20590; (800) 853-1351. The documents also are available for inspection at the National Archives and Records Administration (NARA). For information on the availability of this material at NARA, call 202-741-6030, or go to: http://www.archives.gov/federal_register/code_of_federal_regulations/ibr_locations.html. Copies of these documents may be obtained from the following organizations:

(1) American Association of State Highway and Transportation Officials (AASHTO), Suite 249, 444 North Capitol Street, NW., Washington, DC 20001; www.transportation.org; or (202) 624-5800.

(i) A Policy on Geometric Design of Highways and Streets, AASHTO 2011.

(ii) A Policy on Design Standards Interstate System, AASHTO, January 2005.

(iii) Standard Specifications for Highway Bridges, 17th Edition, AASHTO 2002.

(iv) AASHTO LRFD Bridge Construction Specifications, 3rd Edition, with 2010, 2011, 2012, and 2014 Interim Revisions.

(v) AASHTO LRFD Bridge Design Specifications, 7th Edition, AASHTO 2014.

(vi) AASHTO LRFD Movable Highway Bridge Design Specifications, 2nd Edition, including 2008, 2010, 2011, 2012, 2014, and 2015 Interim Revisions, AASHTO 2007.

(vii) AASHTO/AWS D1.5M/D1.5: 2010 Bridge Welding Code, 6th Edition, with 2011 and 2012 Interim Revisions, AASHTO 2011.

(viii) Standard Specifications for Structural Supports for Highway Signs, Luminaires and Traffic Signals, 6th Edition, AASHTO 2013.

(2) American Welding Society (AWS), 8669 NW 36 Street, # 130 Miami, FL 33166-6672; www.aws.org; or (800) 443-9353 or (305) 443-9353.

(i) D1.4/D1.4M: 2011 Structural Welding Code—Reinforcing Steel, American Welding Society, 2011.

(ii) [Reserved]

[FR Doc. 2015-13097 Filed 6-1-15; 8:45 am]

BILLING CODE 4910-22-P